DEPARTMENT OF HOUSING AND URBAN DEVELOPMENT

[Docket No. FR-5907-N-37]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following addresses: AGRICULTURE: Ms. Debra Kerr, Department of Agriculture, OPPM, Property Management Division, Agriculture South Building, 300 7th Street SW., Washington, DC 20024, (202) 720-8873; AIR FORCE: Mr. Robert E. Moriarty, P.E., AFCEC/CI, 2261 Hughes Avenue, Ste. 155, JBSA Lackland, TX 78236-9853, (315) 225-7384; ARMY: Ms. Veronica Rines, Office of the Assistant Chief of Staff for Installation Management, Department of Army, Room 5A128, 600 Army Pentagon, Washington, DC 20310, (571) 256-8145; COE: Ms. Brenda Johnson-Turner, HQUSACE/CEMP-CR, 441 G Street NW., Washington, DC 20314, (202) 761-7238; COAST GUARD: Mr. John Ericson, Commandant (CG-437), U.S Coast Guard, Stop 7714, 2703 Martin Luther King Jr. Avenue SE., Washington, DC 20593-7714; (202) 475-5602; GSA: Mr. Flavio Peres, General Services Administration, Office of Real Property Utilization and Disposal, 1800 F Street NW., Room 7040 Washington, DC 20405, (202) 501-0084; NAVY: Ms. Nikki Hunt, Department of the Navy, Asset Management Division, Naval Facilities Engineering Command, Washington Navy Yard, 1330 Patterson Ave. SW., Suite 1000, Washington, DC 20374; (202) 685-9426; (These are not toll-free numbers).

Dated: September 1, 2016.
Brian P. Fitzmaurice,
Director, Division of Community Assistance, Office of Special Needs Assistance Programs.

TITLE V, FEDERAL SURPLUS PROPERTY PROGRAM FEDERAL REGISTER REPORT FOR 09/09/2016

Suitable/Available Properties

Building

Colorado

East Central Board of Cooperative Educational Services Property

47156 State Highway 71

Limon CO 80828

Landholding Agency: GSA

Property Number: 54201630007

Status: Surplus

GSA Number: 7-GR-CO-0640-2

Comments: 46+ yrs. old; 2,640 sq. ft.; alternative school; possible asbestos & lead-based paint; remediation needed; contact GSA for more information.

Illinois

Rockford USARC

1130 Arthur Ave.

Rockford IL 61101

Landholding Agency: GSA

Property Number: 54201630006

Status: Surplus

GSA Number: 1-D-IL-800

Directions: Disposal Agency: GSA; Landholding Agency: Army; Unusual physical feature of property: only small portion flat, rest is heavily sloped as it abuts interstate hwy

Comments: 16,411 sq. ft.; office; 15+ months vacant; repairs needed; accessible by easement through neighboring company's parking lot; contact GSA for more details.

Kentucky

Two Vault Restroom Facilities

Cave Creek Recreation Area

14957 Falls of Rough

Rough River Lake KY

Landholding Agency: COE

Property Number: 31201630013

Status: Excess

Comments: off-site removal only; 19+ yrs. old; 40 sq. ft.; restroom facility; waste holding tanks are leaking; contact COE for more information.

Maine

Former Radio Communication

Link Repeater

78 Libby Hill Rd.

Gardiner ME 04345

Landholding Agency: GSA

Property Number: 54201630003

Status: Excess

GSA Number: 1-U-ME-0699-AA

Directions: Landholding Agency: Transportation; Disposal Agency: GSA

Comments: 381 sq. ft.; 40+ months vacant; sits on 2.05 +/− acres; contact GSA Real Property Utilization & Disposal for access at 617-565-5072.

2 Buildings

3 Customs Street

Calais ME 04619

Landholding Agency: GSA

Property Number: 54201630009

Status: Unutilized

GSA Number: ME-0698-AC

Comments: off-site removal only; 15+ yrs. old; 3,338 sq. ft.; difficult to relocate; storage & vehicle maintenance; 4+ mos. vacant; contact GSA for more information.

Missouri

TRL20C02, TRL-45649

Waterborne Toilet

1791 State Hwy UU

Blue Eye MO 65611

Landholding Agency: COE

Property Number: 31201630015

Status: Underutilized

Directions: Latitude: 36.55930839 Longitude: −93.32092854

Comments: 44+ yrs. old; 10′ 8″ × 24′ sq. ft.; restroom facility; building in disrepair due to crack in the walkways, eroded plumbing & failing wastewater line, contact COE for more information.

U.S. Army Reserve Center #2

4100 Goodfellow Blvd.

St. Louis MO 63120

Landholding Agency: GSA

Property Number: 54201630008

Status: Surplus

GSA Number: 7-D-MO-0857-AA

Directions: Disposal Agency: GSA, Landholding Agency: COE

Comments: 45+ yrs. old; 32,368 sq. ft.; office/classroom; 24+ mos. vacant; leaky roof; possible mold & asbestos; prior approval needed to gain access; contact GSA for more information.

Land

Iowa

Exira Repeater Site

41.590672,−94.954396

Exira IA 50076

Landholding Agency: GSA

Property Number: 54201630005

Status: Surplus

GSA Number: 7-D-IA-0521-AA

Directions: Disposal Agency: GSA, Land Holding Agency: DOE

Comments: 5.06 acres of land; contact GSA for more information.

Suitable/Unavailable Properties

Building

Alabama

Gadsden Federal Building and Courthouse

600 Broad Street

Gadsden AL 35901

Landholding Agency: GSA

Property Number: 54201620018

Status: Excess

GSA Number: 4-G-AL-0805-AA

Comments: 105+ yrs. old; 17,488 sq. ft.; office & courthouse; listed on the national historic register; access must be coordinated, contact GSA for more information.

Unsuitable Properties

Building

Alabama

ARS Fish Experiment/Storage

RPUID 03.55627 Building (642000B064)

990 Wire Road

Auburn AL 36832

Landholding Agency: Agriculture

Property Number: 15201630012

Status: Excess

Comments: decades of termite and decay damage; unsound foundation; numerous gaps/cracks in structure interior walls are crumbling.

Reasons: Extensive deterioration.

ARS Nutrition Experiment

Building (642000B058)

990 Wire Road

Auburn AL 36832

Landholding Agency: Agriculture

Property Number: 15201630013

Status: Excess

Comments: decades of termite and decay damage; unsound foundation; numerous gaps/cracks in structure interior walls are crumbling.

Reasons: extensive deterioration

California

8 Building

Polaris Drive MFHPMHSG

Point Mugu CA 93043

Landholding Agency: Navy

Property Number: 77201630015

Status: Excess

Directions: 1000 unit 1340, 1001-1341, 1002-1342, 1003-1343, 1004-1344, 1005-1345, 1006-1346, 1007-1773

Comments: public access denied and no alternative method to gain access without compromising national security; contaminants that are located on property, was used for chemical agent training of troops.

Reasons: Secured Area

Building 1257

1012 Oriole Dr Unit 1257

Point Mugu CA 93043

Landholding Agency: Navy

Property Number: 77201630016

Status: Excess

Comments: public access denied and no alternative method to gain access w/out comp. nat. sec.; contaminants that are located on property, (Gas Mask Training); was used for chemical agent training of troops.

Reasons: Secured Area; Contamination

11 Buildings

Sparrow Drive MFHPMHSG

Point Mugu CA 93043

Landholding Agency: Navy

Property Number: 77201630017

Status: Excess

Directions: 1101 unit 1453, 1103-1454, 1105-1455, 1107-1456, 1109-1457, 1111-1458, 1112-1459, 1113-1460, 1114-1461, 1115-1462, 1117-1463

Comments: public access denied and no alter. method to gain access w/out comp. nat. sec.; contaminants that are located on property, (Gas Mask Training); was used for chemical agent train. of troops.

Reasons: Contamination; Secured Area

11 Buildings

Main A/B MFHPMHSG

Point Mugu CA 93043

Landholding Agency: Navy

Property Number: 77201630018

Status: Excess

Directions: 1802 A/B, 1804 A/B, 1806 A/B, 1808 A/B, 1810 A/B, 1812 A/B, 1814 A/B, 1816 A/B, 1818 A/B, 1820 A/B, 1822 A/B

Comments: public access denied and no alternative method to gain access w/out comp. nat. sec.; contaminants that are located on property, (Gas Mask Training); was used for chemical agent training of troops.

Reasons: Secured Area; Contamination

1800 Main A/B MFHPMHSG

1800 Main A/B

Point Mugu CA 93043

Landholding Agency: Navy

Property Number: 77201630019

Status: Excess

Comments: public access denied and no alternative method to gain access w/out comp. nat. sec.; contaminants that are located on property, (Gas Mask Training); was used for chemical agent training of troops.

Reasons: Contamination; Secured Area

6 Buildings

Terrier MFHPMHSG

Point Mugu CA 93043

Landholding Agency: Navy

Property Number: 77201630020

Status: Excess

Directions: 1835 units 1617+1618, 1837 units 1621+1622, 1839 units 1624+1625, 1841 units 1625+1783, 1843 units 1626+1627, 1845 units 1628+1629

Comments: public access denied and no alternative method to gain access w/out comp. nat. sec.; contaminants that are located on property, (Gas Mask Training); was used for chemical agent training of troops.

Reasons: Secured Area; Contamination

25 Buildings

Tomahawk MFHPMHSG

Point Mugu CA 93043

Landholding Agency: Navy

Property Number: 77201630021

Status: Excess

Directions: 2084 unit 1689, 2085-1690, 2086-1691, 2087-1691, 2088-1693, 2089-1694, 2090-1695, 2091-1696, 2092-1697, 2094-1698, 2096-1699, 2098-1786, 2100-1700, 2101-1701, 2102-1702, 2103-1703, 2104-1704, 2105-1705, 2106-1706, 2107-1707, 2108-1708, 2109-1709, 2110-1710, 2111-1711, 2113-1712

Comments: public access denied and no alternative method to gain access w/out comp. nat. sec.; contaminants that are located on property, (Gas Mask Training); was used for chemical agent training of troops.

Reasons: Secured Area; Contamination

21 Buildings

Patriot MFHPMHSG

Point Mugu CA 93043

Landholding Agency: Navy

Property Number: 77201630022

Status: Excess

Directions: 2115 unit 1309, 2117-1310, 2119-1311, 2121-1312, 2123-1313, 2125-1314, 2127-1315, 2129-1316, 2131-1308, 2133-1317, 2135-1318, 2137-1319, 2139-1320, 2141-1321, 2142-1322, 2143-1323, 2144-1324, 2145-1325, 2146-1326, 2147-1327, 2148-1328

Comments: public access denied and no alternative method to gain access w/out comp. nat. sec.; contaminants that are located on property, (Gas Mask Training); was used for chemical agent training of troops.

Reasons: Contamination; Secured Area

Florida

15 Buildings

Eglin AFB

Eglin AFB FL 32542

Landholding Agency: Air Force

Property Number: 18201630005

Status: Unutilized

Directions: 9522, 2818, 920, 9405, 9455, 2819, 2821, 2826, 3059, 9606, 9608, 9457, 9458, 2571, 921

Comments: public access denied and no alternative method to gain access without compromising national security.

Reasons: Secured Area

2 Buildings

Eglin AFB

Eglin AFB FL 32542

Landholding Agency: Air Force

Property Number: 18201630006

Status: Unutilized

Directions: Building 6016 & 9306

Comments: public access denied and no alternative method to gain access without compromising national security.

Reasons: Secured Area

Georgia

3 Buildings

West Point Lake

Troup County GA 31833

Landholding Agency: Army

Property Number: 21201630049

Status: Unutilized

Directions: Floating Boat Storage Cover, Picnic Shelter, Vault Toilet

Comments: property located within floodway which has not been correct or contained.

Reasons: Floodway

3 Buildings

West Point Lake

Troup County GA 31833

Landholding Agency: COE

Property Number: 31201630012

Status: Unutilized

Directions: Floating Boat Storage Cover, Picnic Shelter, Vault Toilet

Comments: property located within floodway which has not been correct or contained.

Reasons: Floodway

Vault Toilet

West Point Lake

West Point Lake GA

Landholding Agency: COE

Property Number: 31201630017

Status: Unutilized

Comments: documented deficiencies: significant roof damage; overgrown by vegetation; extensive damaged caused by vandalism; clear threat to physical safety.

Reasons: Extensive deterioration

5 Pit Toilets

4144 Russell Dam Dr.

Elberton GA 30635

Landholding Agency: COE

Property Number: 31201630021

Status: Unutilized

Directions: Property ID # RBR-18148, Acc. # SPEC01; Property ID # RBR-17284, Acc. # MR-C01; Property ID # RBR-16229, Acc. # DF-C01; Property ID # RBR-16601, Acc. # GS-C01; Property ID # RBR-16602, Acc. # GS-C02

Comments: documented deficiencies: unsalvageable; clear threat to physical safety.

Reasons: Extensive deterioration

Property ID# HAR-16226

5625 Anderson Hwy

Hartwell GA 30643

Landholding Agency: COE

Property Number: 31201630022

Status: Unutilized

Comments: documented deficiencies: structural unsound; clear threat to physical safety.

Reasons: Extensive deterioration

Indiana

00011

Camp Atterbury

Edinburgh IN 46124

Landholding Agency: Army

Property Number: 21201630053

Status: Unutilized

Comments: public access denied and no alternative method to gain access without compromising national security.

Reasons: Secured Area

Louisiana

Building 263B

400 Russell Avenue

New Orleans LA 70143

Landholding Agency: Navy

Property Number: 77201630014

Status: Excess

Comments: public access denied and no alternative method to gain access without compromising national security.

Reasons: Secured Area

Massachusetts

COMMSTA Boston Shed

4700 Greenway Rd.

Forestdale MA 02644

Landholding Agency: Coast Guard

Property Number: 88201630003

Status: Excess

Comments: public access denied and no alternative method to gain access without compromising national security.

Reasons: Secured Area

Missouri

TRL06C02, TRL-45476,

Waterborne Toilet

HC 1 Box 1037

Eagle Rock MO 65641

Landholding Agency: COE

Property Number: 31201630014

Status: Underutilized

Directions: HC 1 Box 1037

Comments: doc. deficiencies: doc. provided represents a clear threat to personal physical safety; build. in disrepair due to cracks in the foundation, walls & s/walks eroded plumbing & failing wastewater lines.

Reasons: Extensive deterioration

Oregon

Waldport RS Upper Storage

Building (1533.005251) 07668 05

1130 Forestry Lane

Waldport OR 97394

Landholding Agency: Agriculture

Property Number: 15201630018

Status: Underutilized

Comments: documented deficiencies: significant roof damage; clear threat to physical safety.

Reasons: Extensive deterioration

Texas

6 Buildings

Red River Army depot

Texarkana TX 75507

Landholding Agency: Army

Property Number: 21201630052

Status: Excess

Directions: 1124 (218493); 1123 (218492); 396 (221605); 2369 (368512); 1176 (222650); 1158 (368416)

Comments: documented deficiencies: properties suffer from extensive roof damage; significant water damage due to roof leaks; structural integrity compromised; clear threat to physical safety.

Reasons: Extensive deterioration

Virginia

Tract 01-142 Land's House & Land's Shed

1685 Hickory Hill Rd.

Petersburg VA 23803

Landholding Agency: Interior

Property Number: 61201630014

Status: Excess

Comments: documented deficiencies: condemned; structurally unsound; clear threat to physical safety.

Reasons: Extensive deterioration

NH-28

Naval Support Activity

Hampton Roads

Norfolk VA 23551

Landholding Agency: Navy

Property Number: 77201630013

Status: Excess

Comments: public access denied and no alternative method to gain access without compromising national security.

Reasons: Secured Area

2 Buildings

Naval Support Activity (NSA)

Hampton Roads (HR)

Norfolk VA 23551

Landholding Agency: Navy

Property Number: 77201630023

Status: Excess

Directions: Building NH-5 & NH41

Comments: public access denied and no alternative method to gain access without compromising national security.

Reasons: Secured Area

Wyoming

540900B009—Phone System Bldg.

8500 Hildreth Road

Cheyenne WY 82002

Landholding Agency: Agriculture

Property Number: 15201630014

Status: Unutilized

Directions: RPUID:03.50992

Comments: documented deficiencies: cracks in foundation; clear threat to physical safety.

Reasons: Extensive deterioration

Suitable/Available Properties

Building

Iowa

Creston Memorial U.S.

Army Reserve Center

705 East Taylor Street

Creston IA 50801

Landholding Agency: GSA

Property Number: 54201620015

Status: Surplus

GSA Number: 7-D-IA-0520-AA

Directions: RPUID:629976; Disposal Agency: GSA; Landholding Agency: Corp of Engineers

Comments: 57+ yrs. old; 6,500 sq. ft.; training facility; 29+ mos. vacant; sits on 2.22 acres of land; contact GSA for more information.

Suitable/Unavailable Properties

Building

Alabama

Former National Guard Support Facility

Intersection of 23rd & Industrial Dr.

Cullman AL 33055

Landholding Agency: GSA

Property Number: 54201620013

Status: Excess

GSA Number: 4-D-AL-0818-AA

Directions: Disposal Agency: GSA; Landholding Agency: COE

Comments: 19,850 sq. ft.; storage/warehouse; 80% occupied; several roof leaks resulting in floor damage; contact GSA for more information.

Historic Hannah Houses

157 and 159 N Conception Street

Mobile AL 36603

Landholding Agency: GSA

Property Number: 54201620020

Status: Excess

GSA Number: 4-G-AL-0817AAA

Comments: 163+ yrs. old; 8,868 sq. ft.; office; residential; vacant 120+ mos.; rehabilitation work needed; contact GSA for more information.

Arizona

San Carlos Irrigation Project

BIA Old Main Office Bldg.

255 W. Roosevelt

Coolidge AZ 85128

Landholding Agency: GSA

Property Number: 54201440008

Status: Surplus

GSA Number: 9-I-AZ-1706-AA

Directions: Disposal Agency; GSA; Landholding Agency: Bureau of Indian Affairs.

Comments: 83+ yrs. old; 6,745 sq. ft.; 36mos. vacant; residential and commercial; brick structure; fair condition; asbestos & lead based paint; contact GSA for more information.

Arkansas

Former Eaker AFB Recreational Property

630 Lansing Street

Blytheville AR 72315

Landholding Agency: GSA

Property Number: 54201620026

Status: Excess

GSA Number: 7-GR-AR-0582

Comments: 45+ yrs. old; 36,000 sq. ft.; recreational; building is in disrepair; accessible by appointment only; sits on 48.73 fee acres; contact GSA for more information.

California

Hawthorne Federal Building

15000 Aviation Blvd.,

Hawthorne CA 90250

Landholding Agency: GSA

Property Number: 54201620009

Status: Surplus

GSA Number: 9-G-CA-1695-AB

Directions: Built in 1971; listed on the National Register of Historic Places due to architecture significance; 168,874 sq. ft.; office; serious deficiencies—urgent seismic upgrades, outdated building systems, and environmental concerns

Comments: contact GSA for more information.

Connecticut

Shepard of the Sea Chapel & Community Center

231 Gungywamp Rd.

Groton CT 06340

Landholding Agency: GSA

Property Number: 54201510010

Status: Excess

GSA Number: CT-0933

Directions: Disposal Agency: GSA; Landholding Agency: Navy

Comments: 49+ yrs.-old; 28,777 sq. ft.; vacant 48+ mons.; wood & concrete; severe water damage; mold; sits on 13.5 acres; contact GSA for more information.

District of Columbia

49 L Street

49 L St. SE

Washington DC 20003

Landholding Agency: GSA

Property Number: 54201520003

Status: Excess

GSA Number: DC-496-1

Comments: 32,013 sq. ft.; storage; 67+ mons. vacant; poor condition; roof leaks; extensive structural repairs needed; cracks in walls; contamination; est. repair cost $4,000,000; contact GSA for more info.

Cotton Annex

300 12th Street, SW

Washington DC 20024

Landholding Agency: GSA

Property Number: 54201620003

Status: Excess

GSA Number: DC-0510-AB

Comments: 118,456 sq. ft., office/product testing facility sited of 1.42 acres; 108+ months vacant poor conditions PBCs; asbestos; lead; remediation needed; contact GSA for more information.

Illinois

(MED) Outer Marker (OM) Facility

297 Spring Lake Drive

Itasca IL 60143

Landholding Agency: GSA

Property Number: 54201540006

Status: Surplus

GSA Number: 1-U-IL-805

Directions: Land Holding Agency: FAA; Disposal Agency: GSA

Comments: .441 acres; FAA tower site; contact GSA for more information.

Federal Bldg. & Courthouse

201 N. Vermillion St.

Danville IL 61832

Landholding Agency: GSA

Property Number: 54201610003

Status: Excess

GSA Number: 1-G-IL-810

Comments: 67,845 sq. ft.; office & courthouse; good condition; asbestos and LBPs identified; remediation needed; contact GSA for more information

4 Buildings

202-220 S. State Street

Chicago IL 60604

Landholding Agency: GSA

Property Number: 54201620016

Status: Excess

GSA Number: 1-G-IL-0812-AA

Directions: Building 202 (68,200 sq. ft.); 208 (11,499 sq. ft.); 214 (7,200 sq. ft.); 220 (198,400 sq. ft.)

Comments: 96+ −128+ yrs. old; poor to very poor conditions; major repairs needed; sq. ft. above; office & commercial; 18+−24+ mos. vacant; Contact GSA for more information.

Louisiana

3 Buildings & 12.9 Fee Acres

400 Edwards Ave./Harahan FSS Depot

Elmwood LA 70123

Landholding Agency: GSA

Property Number: 54201610009

Status: Surplus

GSA Number: 7-G-LA-0532-AA

Directions: Warehouse 201,964.79 sq. ft.; office/garage 5,034.67 sq. ft.; pump house 1,493.33 sq. ft.

Comments: 47+ yrs. old; warehouse storage; roof leaks; walls deteriorated; contact GSA for more information.

Baton Rouge Depot

2695 North Sherwood Forest Drive

Baton Rouge LA 70814

Landholding Agency: GSA

Property Number: 54201620025

Status: Surplus

GSA Number: 7-G-LA-0523-AH

Directions: Baton Rouge Depot building's (Building 74-20,000 sq. ft.; Building 28-20,000 sq. ft., Building 70-2,312 sq. ft.)

Comments: 67+ yrs. old; 42,312 total sq. ft.; warehouse, storage; 8+ mos. vacant; sits on 128.50 acres of land; contact GSA for more information.

Michigan

Natl Weather Svc Ofc

214 West 14th Ave.

Sault Ste. Marie MI

Landholding Agency: GSA

Property Number: 54200120010

Status: Excess

GSA Number: 1-C-MI-802

Comments: 2230 sq. ft., presence of asbestos, most recent use—office.

Former Newport Nike Missile

Site D-58

800 East Newport Road

Newport MI 48166

Landholding Agency: GSA

Property Number: 54201530010

Status: Excess

GSA Number: 1-D-MI-0536

Directions: Disposal Agency: GSA? Landholding Agency: COE

Comments: 70+ yrs. old; 3 buildings totaling 11,447 sq. ft.; sits on 36.35 acres; industrial; training site; extremely poor/hazardous condition; remediation required; contact GSA for more information.

Minnesota

Erving L. Peterson Memorial

USARC

1813 Industrial Blvd.

Fergus Falls MN 56537

Landholding Agency: GSA

Property Number: 54201520012

Status: Excess

GSA Number: 1-D-MN-0599-AA

Directions: Disposal Agency: GSA; Landholding Agency: US Army Reserve Command

Comments: The property consists of a 6-acre parcel of land w/an 18,537 sf admin. bldg. and 1,548 sf maintenance bldg..; u7ygifycontact GSA for more information.

FM Repeater Station Install. #3

Sec. 24, T. 105N, R 5W

Dresbach MN

Landholding Agency: GSA

Property Number: 54201540004

Status: Excess

GSA Number: 1-D-MN-598

Directions: Land Holding Agency: COE; Disposal Agency: GSA

Comments: 50+ yrs. old; 80 sq. ft.; storage; average condition; contact GSA for more information.

Henry H. Sibley USARC

600 N. Brown Avenue

Winthrop MN 55396

Landholding Agency: GSA

Property Number: 54201620002

Status: Excess

GSA Number: 1-D-MN-0601-AA

Directions: Landholding Agency. US Army Reserve, Disposed Agency GSA

Comments: 3.67-acre parcel of land with an 4.316 sq. ft. admin. Building & 1,170 Sq. ft. maintenance building; contact GSA for more information.

Missouri

3 Buildings

90, 91 & 92 Grant Avenue

St. Louis MO 63125

Landholding Agency: GSA

Property Number: 54201610011

Status: Surplus

GSA Number: 7-D-MO-0421-6

Directions: Former St. Louis Air Force Station Family Housing Annex; Disposal Agency: GSA; Landholding Agency: AF

Comments: 77+ yrs. old; 19,350 sq. ft.; 15+ yrs. vacant; residential; buildings in state of disrepair; listed on Nat'l Register of Historic Places; contact GSA for more information.

Nevada

Alan Bible Federal Bldg.

600 S. Las Vegas Blvd.

Las Vegas NV 89101

Landholding Agency: GSA

Property Number: 54201210009

Status: Surplus

GSA Number: 9-G-NV-565

Directions: building does not meet GSA's life/safety performance objective

Comments: 81, 247 sq. ft. suited on 0.55 acres; extensive structural issues; major repairs needed; Federal Office Bldg.; 25-30% occupied until Dec. 2016; contact GSA for more info.

2 Buildings

Military Circle

Tonopah NV

Landholding Agency: GSA

Property Number: 54201240012

Status: Excess

GSA Number: 9-I-NV-514-AK

Directions: bldg. 102: 2,508 sf.; bldg. 103: 2,880 sf.

Comments: total sf. for both bldgs. 5,388; Admin.; vacant since 1998; sits on 0.747 acres; fair conditions; lead/asbestos present.

Boulder City Airport

Hangar TW 4-1

1201 Airport Rd.,

Boulder City NV 89005

Landholding Agency: GSA

Property Number: 54201620014

Status: Surplus

GSA Number: 9-I-NV-0575-AA

Directions: Disposal Agency GSA; Landholding Agency: Interior

Comments: Off-site removal only; 27+ yrs. old; 1,600 sq. ft.; storage; 16+ mos. vacant; fair condition; no future agency need; contact GSA for more information.

New Jersey

Portion of former Sievers-Sandberg US Army Reserves Center (Camp Pedric

Artillery Ave at Garrison St.

Oldmans NJ 08067

Landholding Agency: GSA

Property Number: 54201320003

Status: Surplus

GSA Number: 1-D-NJ-0662-AB

Directions: On the north side of Rte. 130, between Perkintown Road (Rte. 644) and Pennsgove-Pedricktown Rd (Rte. 642)

Comments: #171; mess hall bldg. #173; 14,282 total sf.; fair/poor conditions; asbestos/lead-based paint; potential legal constraints in accessing property; Contact GSA for more info.

Portion of Former Sievers-Sandberg U.S. Army Reserves Center—Tract 1

NW Side of Artillery Ave. at Rte. 130

Oldmans NJ 08067

Landholding Agency: GSA

Property Number: 54201320015

Status: Excess

GSA Number: 1-D-NJ-0662-AA

Directions: Previously reported under 54200740005 as suitable/available; 16 bldgs. usage varies: barracks/med./warehouses/garages; property is being parcelized.

Comments: 87,011 sf.; 10+ yrs. vacant fair/poor conditions; property may be landlocked; transferee may need to request access from Oldmans Township planning & zoning comm.; contact GSA for more info.

New York

Portion of GSA Binghamton

“Hillcrest” Depot—Tract 1

1151 Hoyt Ave.

Fenton NY 13901

Landholding Agency: GSA

Property Number: 54201320017

Status: Surplus

GSA Number: 1-G-NY0760-AC

Directions: Previously reported on March 24, 2006 under 54200610016; this property includes 40 acres of land w/6 structures; property is being parcelized

Comments: warehouses range from approx. 16,347 sf.-172,830 sf.; admin. bldg. approx. 5,700 sf; guard house & butler bldg. sf. is unknown; 10 vacant; fair conditions; bldgs. locked; entry by appt. w/GSA.

A Scotia Depot

One Amsterdam Road

Scotia NY 12302

Landholding Agency: GSA

Property Number: 54201420003

Status: Surplus

GSA Number: NY-0554-4

Directions: Previously reported in 2006 but has been subdivided into smaller parcel.

Comments: 325,000 sq. ft.; storage; 120+ months vacant; poor conditions; holes in roof; contamination; access easement, contact GSA for more information.

Michael J. Dillon

U.S. Memorial Courthouse

68 Court Street

Buffalo NY 14202

Landholding Agency: GSA

Property Number: 54201540010

Status: Excess

GSA Number: NY-0993-AA

Comments: 180950 gross sq. ft.; sits on 0.75 acres; 48+ months vacant; asbestos/LBP maybe present; eligible for Nat'l Register; subject to Historic Preserv. covenants; contact GSA for more info.

North Carolina

Johnson J. Hayes Federal Build

207 West Main Street

Wilkesboro NC 28697

Landholding Agency: GSA

Property Number: 54201540015

Status: Excess

GSA Number: NC-0735-AB

Directions: Take US Highway 421 North toward Wilkesboro/Boone; Take exit 286A; Turn left onto NC-16/NC-18/S Cherry St.; Continue to follow NC-18/S Cherry St.; Turn right onto NC-18/NC-268/W Main St.; Basement—6,870 usable square feet (usf); First Floor—15,755 usf; Second Floor—16,118 usf; Total—38,743 usf

Comments: 47+ yrs. old; 38,743 Gross Square Feet.; office & courtroom; good condition; lease becomes month-to-month 02/2016; asbestos; contact GSA for more information.

Bryson City Federal Building and Courthouse

50 Main Street

Bryson City NC 28713

Landholding Agency: GSA

Property Number: 54201620019

Status: Excess

GSA Number: 4-G-NC-0838-AA

Comments: 54+ yrs. old; 34,156 sq. ft.; office & courthouse; access must be coordinated; lease expires less than 6 mos.; sits on 1.3 acres of land; contact GSA for more information.

Ohio

N. Appalachian Experimental

Watershed Research Ctr.

28850 State Rte. 621

Coshocton OH 43824

Landholding Agency: GSA

Property Number: 54201420006

Status: Excess

GSA Number: 1-A-OH-849

Directions: Landholding Agency: Agriculture; Disposal Agency: GSA

Comments: 70,539 total sq. ft. for two bldgs.; storage/office; fair to poor conditions; lead-based paint; asbestos; PCBs; mold; remediation required; contact GSA for more information.

Oregon

FAA Non Directional Beacon

(NDB) sites on 0.92 acres

93924 Pitney Lane., Sec 6, T 16S R4W, W.M.

Junction City OR 97448

Landholding Agency: GSA

Property Number: 54201540009

Status: Unutilized

GSA Number: 9-OR-0806

Directions: Disposal Agency: GSA; Landholding Agency: FAA; Tax Lot number 16040600; Lane County zoning is a 5 AC min. for residential (RR5)

Comments: 25+ yrs. old; 50 sq. ft.; storage; 24+ mos. vacant; poor condition; 0.92 acres of land; contact GSA for more information.

12 Buildings

580 Fish Lake Road

Butte Falls OR 97522

Landholding Agency: GSA

Property Number: 54201620004

Status: Excess

GSA Number: 9-I-OR-0787AA

Directions: Buildings 15111-1,800 sq. ft.; 15039-192; 15114-1,222; 15112-1,416; 15029-240; 15014-6,750; 15034-2,700; 15036-396; 15037-400; 15028-150; 15033-880; 15054-unknown; 15032-unknown

Comments: 63+−85+ yrs. old; historic buildings; fish hatchery w/residences; 60+ mos. vacate; contact GSA for more information.

South Carolina

Former US Vegetable Lab

2875 Savannah Hwy

Charleston SC 29414

Landholding Agency: GSA

Property Number: 54201310001

Status: Excess

GSA Number: 4-A-SC-0609AA

Directions: headhouse w/3 greenhouses, storage bins

Comments: 6,400 sf.; lab; 11 yrs. vacant; w/in 100 yr. floodplain/floodway; however, is contained; asbestos & lead based paint.

Texas

Austin U.S. Courthouse

200 W. 8th Street

Austin TX 78701

Landholding Agency: GSA

Property Number: 54201620010

Status: Excess

GSA Number: 7-G-TX-1170-AA

Comments: 63,264 sq. ft.; sits on 0.81 fee acres; on National Register of Historic Places; contact GSA for more information.

Washington

USARC Moses Lake

Arnold Dr., at Newell St.,

Building 4306

Moses Lake WA 98837

Landholding Agency: GSA

Property Number: 54201610010

Status: Excess

GSA Number: 9-I-WA-1141

Directions: Sits on 2.86 acres? Direction: Disposal Agency GSA; Landholding Agency: Nat'l Park Service

Comments: 62+ yrs. old; 4,499 sq. ft.; boys & girls club; 4+ yrs. vacant; roof needs repairs; contact GSA for more information.

Wenatchee Federal Building

301 Yakima Street

Wenatchee WA 98001

Landholding Agency: GSA

Property Number: 54201620012

Status: Excess

GSA Number: 9-G-WA-1286

Directions: The property is leased to governmental tenants and will continue to be leased 24 months from the date of sale with the option, to renew for a 5-year term

Comments: 104,414 sf 4 story office building with full basement and mechanical penthouse constructed in 1973 on a 2.7-acre lot with 129 parking spaces; contact GSA for more information.

N Border Housing at the Laurie

LOPE

27107 Highway 395 North

Laurier WA 99146

Landholding Agency: GSA

Property Number: 54201620022

Status: Excess

GSA Number: 9-G-WA-1297-AA

Comments: Off-site removal only; 80+ yrs. old; 1,970 sq. ft.; due to size/+yrs. relocation extremely difficult; storage; 144+ mos. vacant; contacts GSA for more information.

South Border Housing at the

Laurier LOPE

27107 Highway 395 North

Laurier WA 99146

Landholding Agency: GSA

Property Number: 54201620023

Status: Excess

GSA Number: 9-G-WA-1297-AB

Comments: Off-site removal only; 80+ yrs. old; 2,200 sq. ft.; due to size/+yrs. relocation extremely difficult storage; 144+ mos. vacant; contact GSA for more information.

West Virginia

Naval Information Operations

Center

133 Hedrick Drive

Sugar Grove WV 26815

Landholding Agency: GSA

Property Number: 54201430015

Status: Excess

GSA Number: 4-N-WV-0560

Directions: Land holding agency—Navy; Disposal Agency GSA

Comments: 118 Buildings; 445,134 sq. ft.; Navy base; until 09/15 military checkpoint; wetlands; contact GSA for more info.

Wisconsin

FM Repeater Station Install.#3

Sec. 36, T. 25N, R 13W

Bay City WI

Landholding Agency: GSA

Property Number: 54201540002

Status: Excess

GSA Number: 1-D-WI-621

Directions: Land Holding Agency: COE; Disposal Agency: GSA

Comments: 50+ yrs. old; 80 sq. ft.; storage; average condition; contact GSA for more information.

FM Repeater Station Install.#3

Sec. 26, T. 9N, R 6W

Lynxville WI 54626

Landholding Agency: GSA

Property Number: 54201540003

Status: Excess

GSA Number: 1-D-WI-622

Directions: Land Holding Agency: COE; Disposal Agency: GSA

Comments: CORRECTION from June 24 FR: Property is suitable and unavailable; reason: Advertised for sale; 50+ yrs. old; 80 sq. ft.; storage; average condition; contact GSA for more information.

Social Security Office Bldg.

606 N. 9th Street

Sheboygan WI

Landholding Agency: GSA

Property Number: 54201540012

Status: Excess

GSA Number: 1-W-623-AA

Directions: WI0098ZZ

Comments: 37+yrs. old; 4,566 sq. ft.; office building; contact GSA for more information.

Land

California

Delano Transmitting Station

1105 Melcher Rd.

Delano CA 93215

Landholding Agency: GSA

Property Number: 54201330005

Status: Excess

GSA Number: 9-X-CA-1671

Directions: Landholding Agency: Broadcasting Board of Governors Disposal Agency: GSA

Comments: 800 acres; mostly land and some blogs.; unavailable due to Federal interest; transmitting station; vacant since 2007; access can be gain by appt. only; contact GSA for more info.

FAA Sacramento Middle Maker

Site

1354 Palomar Circle

Sacramento CA 95831

Landholding Agency: GSA

Property Number: 54201530007

Status: Surplus

GSA Number: 9-U-CA-1707-AA

Directions: Disposal Agency: GSA; Landholding Agency: FAA

Comments: 0.29 Acres; contact GSA for more information.

Florida

Former Outer Maker Site

105th Ave. North

Royal Palm Beach FL 33411

Landholding Agency: GSA

Property Number: 54201610001

Status: Surplus

GSA Number: 4-U-FL_1332AA

Directions: Landholding Agency: FAA; Disposal Agency: GSA

Comments: 0.92 acres; contact GSA for more information.

Former Radio Communication

Receiver Site

SW Kanner Hwy

Martin FL 34956

Landholding Agency: GSA

Property Number: 54201610002

Status: Surplus

GSA Number: 4-U-FL-1321

Directions: Landholding Agency: FAA; Disposal Agency: GSA

Comments: 1.06 acres; contact GSA for more information.

Illinois

FAA Outer Marker

5549 Elizabeth Place

Rolling Meadows IL

Landholding Agency: GSA

Property Number: 54201430004

Status: Excess

GSA Number: I-U-IL-807

Directions: Landholding Agency; FAA; Disposal Agency; GSA

Comments: 9,640 sq. ft.; 12+ months vacant; outer marker to assist planes landing at O'Hare Airport; contact GSA for more information.

Nevada

Ditchrider South East Street

207 South East St.

Fallon NV 89406

Landholding Agency: GSA

Property Number: 54201440007

Status: Surplus

GSA Number: 9-I-NV-0572-AA

Directions: Disposal Agency; GSA; Land Holding Agency; Interior.

Comments: 0.32 acres; formerly used us contractor/employee housing structure demolished on land 02/2011. Contact GSA for more information.

USGS Elko Parcel

1701 North 5th Street

Elko NV 89801

Landholding Agency: GSA

Property Number: 54201540013

Status: Surplus

GSA Number: 9-I-NV-0465-AE

Directions: previous “H Facility”

Comments: 0.90 acres; contact GSA for more information.

New Jersey

49 Acres

Woodbridge Avenue

Edison NJ 08817

Landholding Agency: GSA

Property Number: 54201610006

Status: Excess

GSA Number: NJ-0944-AA

Comments: 49 acres, contact GSA for more information.

Oklahoma

Caney Creek

33.925152-96.690155

Unincorporated OK 73152

Landholding Agency: GSA

Property Number: 54201610005

Status: Excess

GSA Number: 7-G-OK-0852-AA

Comments: 9.82 acres; endangered species in area not specially on land; contact GSA for more information.

Oregon

Crowfoot Road Egg Taking

Station

Crowfoot Road

Jackson OR 97522

Landholding Agency: GSA

Property Number: 54201620001

Status: Excess

GSA Number: 9-I-OR-0787 AB

Directions: Landholding Agency; FWS; Disposal Agency; GSA

Comments: 10.23 acres; contact GSA for more information.

South Carolina

Marine Corps Reserve Training Center

2517 Vector Ave.

Goose Creek SC 29406

Landholding Agency: GSA

Property Number: 54201410009

Status: Excess

GSA Number: 4-N-SC-0630-AA

Directions: Landholding Agency: Navy; Disposal Agency: GSA

Comments: 5.59 acres; contact GSA for more information.

Formerly the FAA's D7 Remote

Communications Link Receiver Fac.

Latitude N. 33.418194 & Longitude W. 80.13738

Eadytown SC

Landholding Agency: GSA

Property Number: 54201540011

Status: Surplus

GSA Number: 4-U-SC-0633-AA

Directions: Landholding Agency: Transportation; Disposal Agency: GSA

Comments: 5.5 acres; Remote Communications Link Receiver Facility; contact GSA for more information.

Tennessee

Parcel ED-3 E

and W (168.30 +/− acres)

South Side of Oak Ridge Turnpike

Oak Ridge TN 37763

Landholding Agency: GSA

Property Number: 54201520015

Status: Surplus

GSA Number: 4-B-TN-0664-AG

Directions: GSA- Disposal Agency; Energy- Landholding Agency; (State Rte. 58)

Comments: Accessibility/usage subjected to Federal state, & local laws including but not limited to historic preservation, floodplains, wetlands, endangered species, Nat'l EPA; contact GSA for more information.

Parcels ED-13, 3A, 16

Portions of D-8 & ED-4

N. Side of Oak Ridge Turnpike (State Rte. 58)

Oak Ridge TN 37763

Landholding Agency: GSA

Property Number: 54201530001

Status: Surplus

GSA Number: 4-B-TN-0664-AF

Directions: Energy: Landholding Agency; GSA: Disposal Agency

Comments: 168 +/− acres; legal constraints: ingress/egress utility easement; groundwater constraints; contact GSA for more information.

Self-Sufficiency Parcel 13

Anderson County

Oak Ridge TN 37830

Landholding Agency: GSA

Property Number: 54201620005

Status: Surplus

GSA Number: 4-B-TN-0664-AH

Directions: Landholding Agency: Energy; Disposal Agency: GSA

Comments: 20 acres; 2 sink-holes with eroded wet weather conveyance draining to them; contact GSA for more information.

Washington

Paine Field

Everett Facility Section 27

Everett WA

Landholding Agency: GSA

Property Number: 54201610012

Status: Excess

GSA Number: 9-U-WA-1284

Directions: Landholding Agency: FAA; disposal Agency: GSA

Comments: 0.54 acres; used as Outer Maker facility for aircraft approaches; contact GSA for more information.

West Virginia

Former AL1-RCLR Tower Site

2146 Orleans Rd.,

Great Cacapon WV 25422

Landholding Agency: GSA

Property Number: 54201530002

Status: Surplus

GSA Number: 4-U-WV-0561AA

Directions: Direction: Disposal Agency: GSA? Land Holding Agency: Federal Aviation Administration

Comments: 9.69 acres; located on ridgetop.

Wisconsin

TACAN Annex

6400 Block of Lake Rd.

Windsor WI 53598

Landholding Agency: GSA

Property Number: 54201320005

Status: Excess

GSA Number: 1-D-WI-611

Comments: 1 acre; moderate conditions.

[FR Doc. 2016-21470 Filed 9-8-16; 8:45 am]

BILLING CODE 4210-67-P